DEPARTMENT OF THE INTERIOR

Bureau of Land Management

[L51010000.FX0000.LVRWB09B2600.LLCAD06000]

Notice of Availability of the Draft Supplemental Environmental Impact Statement for the Palen Solar Electric Generating System and Draft California Desert Conservation Area Plan Amendment

AGENCY: Bureau of Land Management, Interior.

ACTION: Notice of availability.

SUMMARY: In compliance with the National Environmental Policy Act of 1969, as amended (NEPA), and the Federal Land Policy and Management Act of 1976, as amended (FLPMA), the Bureau of Land Management (BLM) has prepared a Draft Supplemental Environmental Impact Statement (EIS) and Draft California Desert Conservation Area (CDCA) Plan Amendment for the Palen Solar Electric Generating System (PSEGS). This Draft Supplemental EIS supplements the Final EIS prepared for the Palen Solar Power Project (PSPP), Riverside County, California. This notice announces the opening of the comment period.

DATES: To ensure that comments will be considered, the BLM must receive written comments on the Draft Supplemental EIS within 90 days following the date the Environmental Protection Agency publishes its Notice of Availability in the Federal Register. The BLM will announce future meetings or hearings and any other public involvement activities at least 15 days in advance through public notices, media releases, and/or mailings.

ADDRESSES: You may submit comments related to the PSEGS project by any of the following methods:

• Web site: http://www.blm.gov/ca/st/en/fo/palmsprings/Solar_Projects/palen_solar_electric.html.

• Email: fmcmenimen@blm.gov.

• Fax: 760-833-7199.

• Mail: Frank McMenimen, Project Manager, BLM Palm Springs—South Coast Field Office, 1201 Bird Center Drive, Palm Springs, CA 92262.

Copies of the PSEGS Draft Supplemental EIS and the PSPP Final EIS are available from the Palm Springs—South Coast Field Office at the above address.

FOR FURTHER INFORMATION CONTACT: Frank McMenimen, BLM Project Manager, telephone 760-833-7150, address 1201 Bird Center Drive, Palm Springs, CA 92262; email fmcmenimen@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The PSEGS project is approximately 10 miles east of Desert Center in Riverside County, California, on BLM-administered land. The BLM published a Final EIS analyzing the original PSPP on May 13, 2011 (76 FR 28064); a record of decision was never signed. BrightSource Energy (BSE) took over the project in 2012. BSE and its project partner, Abengoa, through the project holding company, Palen Solar III, LLC, have filed with the BLM a revised Plan of Development (POD) that proposes a change from the PSPP solar thermal parabolic trough technology to a solar thermal power tower technology. The revised project would generate approximately 500 megawatts (MW) of electricity and would encompass 3,896 acres.

The proposed project consists of the construction of two power plant units with a net generating capacity of up to 250MWs each, consisting of two 750-foot tall power tower solar receivers that would be driven by a field of heliostats, whereas the PSPP Final EIS proposed parabolic trough receivers. The PSEGS would be developed entirely within the facility footprint previously analyzed by the PSPP Final EIS, with the exception of a slight modification in the westernmost portion of the generation tie-line to accommodate the relocation of the Red Bluff Substation and to align the transmission corridors of the project with existing transmission generation tie-lines from other approved generation projects. Additional infrastructure would include an electrical switchyard, a natural gas pipeline and an access road.

The CDCA Plan, while recognizing the potential compatibility of solar generation facilities with other uses on public lands, requires that all sites proposed for power generation or transmission generation tie-lines greater than 161 kilovolts (kV), not already identified in the CDCA Plan be considered through the plan amendment process. This Draft Supplement EIS incorporates and supplements the analysis of the plan amendment contained in the Final EIS. If the BLM decides to grant a ROW, the BLM would amend the CDCA Plan as required based on guidance in the BLM Land Use Planning Handbook(H-1601-1).

Palen Solar III, LLC, is anticipating construction to begin in early 2014 and take approximately 34 months in order to meet the PSEGS delivery obligations under existing approved power purchase agreements with California utilities. The PSEGS facility has an anticipated operational life of 25 to 30 years. Accordingly, Palen Solar III, LLC, is requesting a right-of-way grant from the BLM for an initial period of 30 years.

The 2011 PSPP Final EIS considered solar power tower technology but did not analyze it in detail. The Draft Supplemental EIS analyzes in detail an alternative to utilize this technology, including additional site-specific impacts resulting from the change in technology and additional ancillary facilities or relocation of facilities. This includes impacts to air quality, biological resources, cultural resources, water resources, geological resources and hazards, hazardous materials handling, noise, paleontological resources, public health, socioeconomics, soils, traffic and transportation, visual resources, waste management, worker safety and fire protection, as well as facility design engineering, efficiency, reliability, transmission system engineering and transmission line safety and nuisance.

Before including your address, phone number, email address, or other personal identifying information in your comment, you should be aware that your entire comment—including your personal identifying information—may be made publicly available at any time. While you can ask us in your comment to withhold your personal identifying information from public review, we cannot guarantee that we will be able to do so.

Authority: 43 CFR 1610.2, 40 CFR 1506.6 & 1506.10.

Cynthia Staszak,
Associate Deputy State Director.

[FR Doc. 2013-18386 Filed 7-30-13; 8:45 am]

BILLING CODE 4310-40-P